DEPARTMENT OF COMMERCE

International Trade Administration

[A-570-867]

Extension of Time Limit for the Preliminary Results of the Antidumping Duty Administrative Review: Automotive Replacement Glass Windshields From the People's Republic of China

AGENCY: Import Administration, International Trade Administration, Department of Commerce.

SUMMARY: The Department of Commerce (“the Department”) is extending the time limit, from December 31, 2004, until no later than March 31, 2005, for the preliminary results of the administrative review of the antidumping duty order on automotive replacement glass windshields from the People's Republic of China. This review covers the period April 1, 2003, through March 31, 2004.

EFFECTIVE DATE: December 3, 2004.

FOR FURTHER INFORMATION CONTACT: Jon Freed or Will Dickerson, Import Administration, International Trade Administration, U.S. Department of Commerce, 14th Street and Constitution Avenue, NW, Washington, DC 20230; telephone: (202) 482-3818, or 482-1778, respectively.

Background

On May 27, 2004, the Department published in the Federal Register a notice of the initiation of the antidumping duty administrative review of ARG from the PRC for the period April 1, 2003, through March 31, 2004. See Initiation of Antidumping and Countervailing Duty Administrative Reviews and Request for Revocation in Part, 69 FR 30282 (May 27, 2004). On October 12, 2004, the Department published in the Federal Register a notice rescinding the administrative review of two companies which had withdrawn their requests for reviews. See Notice of Partial Rescission of the Antidumping Duty Administrative Review: Certain Automotive Replacement Glass Windshields from the People's Republic of China, 69 FR 60612 (October 12, 2004). The preliminary results of review are currently due no later than December 31, 2004.

Extension of Time Limit of Preliminary Results

Section 751(a)(3)(A) of the Tariff Act of 1930, as amended (“the Act”), states that, if it is not practicable to complete the review within the time specified, the administering authority may extend the 245-day period to issue its preliminary results by up to 120 days. Completion of the preliminary results of this review within the 245-day period is not practicable because the Department needs additional time to analyze a significant amount of information pertaining to each company's sales practices, factors of production, and corporate relationships, and to review responses to supplemental questionnaires.

Because it is not practicable to complete this review within the time specified under the Act, we are extending the time period for issuing the preliminary results of review by 90 days until March 31, 2005, in accordance with section 751(a)(3)(A) of the Act. The final results continue to be due 120 days after the publication of the preliminary results.

Dated: November 29, 2004.
Barbara E. Tillman,
Acting Deputy Assistant Secretary for Import Administration.

[FR Doc. E4-3457 Filed 12-2-02; 8:45 am]

BILLING CODE: 3510-DS-S